DEPARTMENT OF TRANSPORTATION

Surface Transportation Board

[STB Finance Docket No. 33988]

Central Midland Railway Company—Operation Exemption—Lines of Missouri Central Railroad Company

Central Midland Railway Company (CMRC), a noncarrier, has filed a notice of exemption under 49 CFR 1150.31 to operate a 244.5-mile line of railroad owned by Missouri Central Railroad Company (Missouri), between Vigus, MO (milepost 19.0), and Pleasant Hill, MO (milepost 263.5), including trackage rights over 33.5 miles of Union Pacific Railroad Company between Vigus (milepost 19.0) and Rock Island Junction, MO (milepost 10.3), and between Pleasant Hill (milepost 263.5) and Leeds Junction, MO (milepost 288.3). CMRC has entered into an operating agreement with Missouri permitting CMRC to operate the lines of Missouri.

The transaction was scheduled to become effective on January 9, 2001 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 33988, must be filed with the Surface Transportation Board, Office of the Secretary, Case Control Unit, 1925 K Street, NW., Washington, DC 20423-0001. In addition, one copy of each pleading must be served on John Broadley, John H. Broadley & Associates, P.C., 1054 31st St., NW., Suite 200, Washington, DC 20007.

Board decisions and notices are available on our website at http://WWW.STB.DOT.GOV.

Decided: January 22, 2001.
By the Board, David M. Konschnik, Director, Office of Proceedings.
Vernon A. Williams,
Secretary.

[FR Doc. 01-2388 Filed 1-26-01; 8:45 am]

BILLING CODE 4915-00-P